COMMITTEE FOR THE IMPLEMENTATION OF TEXTILE AGREEMENTS

Announcement of Import Limits for Certain Cotton, Wool, Man-Made Fiber, Silk Blend and Other Vegetable Fiber Textiles and Textile Products Produced or Manufactured in the People's Republic of China

December 20, 2000.

AGENCY: Committee for the Implementation of Textile Agreements (CITA).

ACTION: Issuing a directive to the Commissioner of Customs establishing the 2001 limits.

EFFECTIVE DATE: January 1, 2001.

FOR FURTHER INFORMATION CONTACT: Roy Unger, International Trade Specialist, Office of Textiles and Apparel, U.S. Department of Commerce, (202) 482-4212. For information on the quota status of these limits, refer to the Quota Status Reports posted on the bulletin boards of each Customs port, call (202) 927-5850, or refer to the U.S. Customs website at http://www.customs.gov. For information on embargoes and quota re-openings, call (202) 482-3715.

SUPPLEMENTARY INFORMATION:

Authority: Section 204 of the Agricultural Act of 1956, as amended (7 U.S.C. 1854); Executive Order 11651 of March 3, 1972, as amended.

The Bilateral Textile Memorandum of Understanding dated February 1, 1997 between the Governments of the United States and the People's Republic of China, as amended on October 31, 2000, establishes limits for textiles and textile products, produced or manufactured in China and exported during the period beginning on January 1, 2001 and extending through December 31, 2001.

In the letter published below, the Chairman of CITA directs the Commissioner of Customs to establish the 2001 limits.

The 2001 limits may be revised if China becomes a member of the World Trade Organization (WTO) and the United States applies the WTO agreement to China.

As a result of a modification to the Harmonized Tariff Schedule of the United States (HTS) that will be effective January 1, 2001, the HTS headings included in Category 666-C are being changed from only heading 6303.92.2000 to both heading 6303.92.2010 and heading 6303.92.2020; this change will not affect the products included in Category ­666-C.

A description of the textile and apparel categories in terms of HTS numbers is available in the CORRELATION: Textile and Apparel Categories with the Harmonized Tariff Schedule of the United States (see Federal Register notice 64 FR 71982, published on December 22, 1999). Information regarding the 2001 CORRELATION will be published in the Federal Register at a later date.

Richard B. Steinkamp,
Chairman, Committee for the Implementation of Textile Agreements.

Committee for the Implementation of Textile Agreements

December 20, 2000.

Commissioner of Customs,

Department of the Treasury, Washington, DC 20229.

Dear Commissioner: Pursuant to section 204 of the Agricultural Act of 1956, as amended (7 U.S.C. 1854); Executive Order 11651 of March 3, 1972, as amended; and a Memorandum of Understanding dated February 1, 1997 between the Governments of the United States and the People's Republic of China, as amended on October 31, 2000, you are directed to prohibit, effective on January 1, 2001, entry into the United States for consumption and withdrawal from warehouse for consumption of cotton, wool, man-made fiber, silk blend and other vegetable fiber textiles and textile products in the following categories, produced or manufactured in China and exported during the twelve-month period beginning on January 1, 2001 and extending through December 31, 2001, in excess of the following levels of restraint:

Category | Twelve-month limit
Group I
200, 218, 219, 226, 237, 239, 300/301, 313-315, 317/326, 331, 333-336, 338/339, 340-342, 345, 347/348, 350-352, 359-C ¹, 359-V ², 360-363, 369-D ³, 369-H ⁴, 369-L ⁵, 410, 433-436, 438, 440, 442-444, 445/446, 447, 448, 607, 611, 613-615, 617, 631, 633-636, 638/639, 640-643, 644/844, 645/646, 647-652, 659-C ⁶, 659-H ⁷, 659-S ⁸, 666, 669-P ⁹, 670-L ¹⁰, 831, 833, 835, 836, 840, 842 and 845-847, as a group | 1,504,644,950 square meters equivalent.
Sublevels in Group I
200 | 782,976 kilograms.
218 | 11,719,066 square meters.
219 | 2,551,536 square meters.
226 | 11,585,825 square meters.
237 | 2,144,176 dozen.
239 | 3,202,831 kilograms.
300/301 | 2,356,842 kilograms.
313 | 43,710,571 square meters.
314 | 52,178,170 square meters.
315 | 137,802,263 square meters.
317/326 | 22,888,008 square meters of which not more than 4,378,926 square meters shall be in Category 326.
331 | 5,394,800 dozen pairs.
333 | 105,167 dozen.
334 | 335,647 dozen.
335 | 392,192 dozen.
336 | 182,725 dozen.
338/339 | 2,357,344 dozen of which not more than 1,789,482 dozen shall be in Categories 338-S/339-S ¹¹.
340 | 805,270 dozen of which not more than 402,634 dozen shall be in Category 340-Z ¹².
341 | 697,760 dozen of which not more than 418,657 dozen shall be in Category 341-Y ¹³.
342 | 274,678 dozen.
345 | 129,549 dozen.
347/348 | 2,355,929 dozen.
350 | 178,942 dozen.
351 | 598,199 dozen.
352 | 1,661,982 dozen.
359-C | 648,814 kilograms.
359-V | 926,992 kilograms.
360 | 8,319,243 numbers of which not more than 5,674,528 numbers shall be in Category 360-P ¹⁴.
361 | 4,540,302 numbers.
362 | 7,541,027 numbers.
363 | 22,272,149 numbers.
369-D | 4,947,276 kilograms.
369-H | 5,307,990 kilograms.
369-L | 3,559,942 kilograms.
410 | 1,019,128 square meters of which not more than 816,942 square meters shall be in Category 410-A ¹⁵ and not more than 816,942 square meters shall be in Category 410-B ¹⁶.
433 | 21,060 dozen.
434 | 13,466 dozen.
435 | 24,733 dozen.
436 | 15,237 dozen.
438 | 26,664 dozen.
440 | 38,094 dozen of which not more than 21,767 dozen shall be in Category 440-M ¹⁷.
442 | 40,324 dozen.
443 | 130,275 numbers.
444 | 211,075 numbers.
445/446 | 288,622 dozen.
447 | 71,325 dozen.
448 | 22,501 dozen.
607 | 3,437,808 kilograms.
611 | 5,699,904 square meters.
613 | 8,065,359 square meters.
614 | 12,674,134 square meters.
615 | 26,385,245 square meters.
617 | 18,435,104 square meters.
631 | 1,380,259 dozen pairs.
633 | 60,245 dozen.
634 | 655,427 dozen.
635 | 691,361 dozen.
636 | 563,622 dozen.
638/639 | 2,485,822 dozen.
640 | 1,400,469 dozen.
641 | 1,326,654 dozen.
642 | 356,665 dozen.
643 | 533,133 numbers.
644/844 | 3,761,066 numbers.
645/646 | 828,383 dozen.
647 | 1,602,387 dozen.
648 | 1,144,895 dozen.
649 | 1,016,010 dozen.
650 | 123,455 dozen.
651 | 813,077 dozen of which not more than 143,148 dozen shall be in Category 651-B ¹⁸.
652 | 2,971,622 dozen.
659-C | 430,451 kilograms.
659-H | 2,999,237 kilograms.
659-S | 656,544 kilograms.
666 | 3,727,996 kilograms of which not more than 1,352,171 kilograms shall be in Category 666-C ¹⁹.
669-P | 2,142,981 kilograms.
670-L | 17,055,830 kilograms.
831 | 615,392 dozen pairs.
833 | 31,279 dozen.
835 | 126,690 dozen.
836 | 298,723 dozen.
840 | 492,830 dozen.
842 | 282,405 dozen.
845 | 2,469,337 dozen.
846 | 182,707 dozen.
847 | 1,284,980 dozen.
Group II
330, 332, 349, 353, 354, 359-O ²⁰, 431, 432, 439, 459, 630, 632, 653, 654 and 659-O ²¹, as a group | 127,311,012 square meters equivalent.
Group III
201, 220, 222, 223, 224-V ²², 224-O ²³, 225, 227, 229, 369-O ²⁴, 400, 414, 464, 465, 469, 600, 603, 604-O ²⁵, 606, 618-622, 624-629, 665, 669-O ²⁶ and 670-O ²⁷, as a group | 264,087,188 square meters equivalent.
Sublevel in Group III
224-V | 3,838,925 square meters.
225 | 6,622,878 square meters.
Group IV
832, 834, 838, 839, 843, 850-852, 858 and 859, as a group | 12,178,652 square meters equivalent.
Levels not in a Group
369-S ²⁸ | 616,284 kilograms.
863-S ²⁹ | 8,748,455 numbers.
870 | 33,598,686 kilograms.

¹ Category 359-C: only HTS numbers 6103.42.2025, 6103.49.8034, 6104.62.1020, 6104.69.8010, 6114.20.0048, 6114.20.0052, 6203.42.2010, 6203.42.2090, 6204.62.2010, 6211.32.0010, 6211.32.0025 and 6211.42.0010.
² Category 359-V: only HTS numbers 6103.19.2030, 6103.19.9030, 6104.12.0040, 6104.19.8040, 6110.20.1022, 6110.20.1024, 6110.20.2030, 6110.20.2035, 6110.90.9044, 6110.90.9046, 6201.92.2010, 6202.92.2020, 6203.19.1030, 6203.19.9030, 6204.12.0040, 6204.19.8040, 6211.32.0070 and 6211.42.0070.
³ Category 369-D: only HTS numbers 6302.60.0010, 6302.91.0005 and 6302.91.0045.
⁴ Category 369-H: only HTS numbers 4202.22.4020, 4202.22.4500 and 4202.22.8030.
⁵ Category 369-L: only HTS numbers 4202.12.4000, 4202.12.8020, 4202.12.8060, 4202.92.1500, 4202.92.3016, 4202.92.6091 and 6307.90.9905.
⁶ Category 659-C: only HTS numbers 6103.23.0055, 6103.43.2020, 6103.43.2025, 6103.49.2000, 6103.49.8038, 6104.63.1020, 6104.63.1030, 6104.69.1000, 6104.69.8014, 6114.30.3044, 6114.30.3054, 6203.43.2010, 6203.43.2090, 6203.49.1010, 6203.49.1090, 6204.63.1510, 6204.69.1010, 6210.10.9010, 6211.33.0010, 6211.33.0017 and 6211.43.0010.
⁷ Category 659-H: only HTS numbers 6502.00.9030, 6504.00.9015, 6504.00.9060, 6505.90.5090, 6505.90.6090, 6505.90.7090 and 6505.90.8090.
⁸ Category 659-S: only HTS numbers 6112.31.0010, 6112.31.0020, 6112.41.0010, 6112.41.0020, 6112.41.0030, 6112.41.0040, 6211.11.1010, 6211.11.1020, 6211.12.1010 and 6211.12.1020.
⁹ Category 669-P: only HTS numbers 6305.32.0010, 6305.32.0020, 6305.33.0010, 6305.33.0020 and 6305.39.0000.
¹⁰ Category 670-L: only HTS numbers 4202.12.8030, 4202.12.8070, 4202.92.3020, 4202.92.3031, 4202.92.9026 and 6307.90.9907.
¹¹ Category 338-S: all HTS numbers except 6109.10.0012, 6109.10.0014, 6109.10.0018 and 6109.10.0023; Category 339-S: all HTS numbers except 6109.10.0040, 6109.10.0045, 6109.10.0060 and 6109.10.0065.
¹² Category 340-Z: only HTS numbers 6205.20.2015, 6205.20.2020, 6205.20.2050 and 6205.20.2060.
¹³ Category 341-Y: only HTS numbers 6204.22.3060, 6206.30.3010, 6206.30.3030 and 6211.42.0054.
¹⁴ Category 360-P: only HTS numbers 6302.21.3010, 6302.21.5010, 6302.21.7010, 6302.21.9010, 6302.31.3010, 6302.31.5010, 6302.31.7010 and 6302.31.9010.
¹⁵ Category 410-A: only HTS numbers 5111.11.3000, 5111.11.7030, 5111.11.7060, 5111.19.2000, 5111.19.6020, 5111.19.6040, 5111.19.6060, 5111.19.6080, 5111.20.9000, 5111.30.9000, 5111.90.3000, 5111.90.9000, 5212.11.1010, 5212.12.1010, 5212.13.1010, 5212.14.1010, 5212.15.1010, 5212.21.1010, 5212.22.1010, 5212.23.1010, 5212.24.1010, 5212.25.1010, 5311.00.2000, 5407.91.0510, 5407.92.0510, 5407.93.0510, 5407.94.0510, 5408.31.0510, 5408.32.0510, 5408.33.0510, 5408.34.0510, 5515.13.0510, 5515.22.0510, 5515.92.0510, 5516.31.0510, 5516.32.0510, 5516.33.0510, 5516.34.0510 and 6301.20.0020.
¹⁶ Category 410-B: only HTS numbers 5007.10.6030, 5007.90.6030, 5112.11.2030, 5112.11.2060, 5112.19.9010, 5112.19.9020, 5112.19.9030, 5112.19.9040, 5112.19.9050, 5112.19.9060, 5112.20.3000, 5112.30.3000, 5112.90.3000, 5112.90.9010, 5112.90.9090, 5212.11.1020, 5212.12.1020, 5212.13.1020, 5212.14.1020, 5212.15.1020, 5212.21.1020, 5212.22.1020, 5212.23.1020, 5212.24.1020, 5212.25.1020, 5309.21.2000, 5309.29.2000, 5407.91.0520, 5407.92.0520, 5407.93.0520, 5407.94.0520, 5408.31.0520, 5408.32.0520, 5408.33.0520, 5408.34.0520, 5515.13.0520, 5515.22.0520, 5515.92.0520, 5516.31.0520, 5516.32.0520, 5516.33.0520 and 5516.34.0520.
¹⁷ Category 440-M: Only HTS numbers 6203.21.0030, 6203.23.0030, 6205.10.1000, 6205.10.2010, 6205.10.2020, 6205.30.1510, 6205.30.1520, 6205.90.3020, 6205.90.4020 and 6211.31.0030.
¹⁸ Category 651-B: only HTS numbers 6107.22.0015 and 6108.32.0015.
¹⁹ Category 666-C: only HTS numbers 6303.92.2010 and 6303.92.2020.
²⁰ Category 359-O: all HTS numbers except 6103.42.2025, 6103.49.8034, 6104.62.1020, 6104.69.8010, 6114.20.0048, 6114.20.0052, 6203.42.2010, 6203.42.2090, 6204.62.2010, 6211.32.0010, 6211.32.0025, 6211.42.0010 (Category 359-C); 6103.19.2030, 6103.19.9030, 6104.12.0040, 6104.19.8040, 6110.20.1022, 6110.20.1024, 6110.20.2030, 6110.20.2035, 6110.90.9044, 6110.90.9046, 6201.92.2010, 6202.92.2020, 6203.19.1030, 6203.19.9030, 6204.12.0040, 6204.19.8040, 6211.32.0070 and 6211.42.0070 (Category 359-V).
²¹ Category 659-O: all HTS numbers except 6103.23.0055, 6103.43.2020, 6103.43.2025, 6103.49.2000, 6103.49.8038, 6104.63.1020, 6104.63.1030, 6104.69.1000, 6104.69.8014, 6114.30.3044, 6114.30.3054, 6203.43.2010, 6203.43.2090, 6203.49.1010, 6203.49.1090, 6204.63.1510, 6204.69.1010, 6210.10.9010, 6211.33.0010, 6211.33.0017, 6211.43.0010 (Category 659-C); 6502.00.9030, 6504.00.9015, 6504.00.9060, 6505.90.5090, 6505.90.6090, 6505.90.7090, 6505.90.8090 (Category 659-H); 6112.31.0010, 6112.31.0020, 6112.41.0010, 6112.41.0020, 6112.41.0030, 6112.41.0040, 6211.11.1010, 6211.11.1020, 6211.12.1010 and 6211.12.1020 (Category 659-S).
²² Category 224-V: only HTS numbers 5801.21.0000, 5801.23.0000, 5801.24.0000, 5801.25.0010, 5801.25.0020, 5801.26.0010, 5801.26.0020, 5801.31.0000, 5801.33.0000, 5801.34.0000, 5801.35.0010, 5801.35.0020, 5801.36.0010 and 5801.36.0020.
²³ Category 224-O: all HTS numbers except 5801.21.0000, 5801.23.0000, 5801.24.0000, 5801.25.0010, 5801.25.0020, 5801.26.0010, 5801.26.0020, 5801.31.0000, 5801.33.0000, 5801.34.0000, 5801.35.0010, 5801.35.0020, 5801.36.0010 and 5801.36.0020 (Category 224-V).
²⁴ Category 369-O: all HTS numbers except 6302.60.0010, 6302.91.0005 and 6302.91.0045 (Category 369-D); 4202.22.4020, 4202.22.4500, 4202.22.8030 (Category 369-H); 4202.12.4000, 4202.12.8020, 4202.12.8060, 4202.92.1500, 4202.92.3016, 4202.92.6091 and 6307.90.9905 (Category 369-L); and 6307.10.2005 (Category 369-S)
²⁵ Category 604-O: all HTS numbers except 5509.32.0000 (Category 604-A).
²⁶ Category 669-O: all HTS numbers except 6305.32.0010, 6305.32.0020, 6305.33.0010, 6305.33.0020 and 6305.39.0000 (Category 669-P).
²⁷ Category 670-O: only HTS numbers 4202.22.4030, 4202.22.8050 and 4202.32.9550.
²⁸ Category 369-S: only HTS number 6307.10.2005.
²⁹ Category 863-S: only HTS number 6307.10.2015.

The limits set forth above are subject to adjustment pursuant to the current bilateral agreement between the Governments of the United States and the People's Republic of China.

Products in the above categories exported during 2000 shall be charged to the applicable category limits for that year (see directive dated December 6, 1999) to the extent of any unfilled balances. In the event the limits established for that period have been exhausted by previous entries, such products shall be charged to the limits set forth in this directive.

These limits may be revised if China becomes a member of the World Trade Organization (WTO) and the United States applies the WTO agreement to China.

As a result of a modification to the Harmonized Tariff Schedule of the United States (HTS) that will be effective January 1, 2001, the HTS headings included in Category 666-C are being changed from only heading 6303.92.2000 to both heading 6303.92.2010 and heading 6303.92.2020; this change will not affect the products included in Category 666-C.

The conversion factor for merged Categories 638/639 is 12.96 (square meters equivalent/category unit).

In carrying out the above directions, the Commissioner of Customs should construe entry into the United States for consumption to include entry for consumption into the Commonwealth of Puerto Rico.

The Committee for the Implementation of Textile Agreements has determined that these actions fall within the foreign affairs exception to the rulemaking provisions of 5 U.S.C. 553(a)(1).

Sincerely,
Richard B. Steinkamp,
Chairman, Committee for the Implementation of Textile Agreements.

[FR Doc. 00-32987 Filed 12-26-00; 8:45 am]

BILLING CODE 3510-DR-F